DEPARTMENT OF TRANSPORTATION

Office of the Secretary

Aviation Proceedings, Agreements Filed the Week Ending July 4, 2003

The following Agreements were filed with the Department of Transportation under the provisions of 49 U.S.C. sections 412 and 414. Answers may be filed within 21 days after the filing of the application.

Docket Number: OST-2003-15539.

Date Filed: June 30, 2003.

Parties: Members of the International Air Transport Association.

Subject: Mail Vote 307, PTC12 USA-EUR 0156 dated June 14, 2003, TC12 North Atlantic USA-Europe, Expedited Resolution 015h, Intended effective date: August 1, 2003.

Docket Number: OST-2003-15540.

Date Filed: June 30, 2003.

Parties: Members of the International Air Transport Association.

Subject: Mail Vote 310, PTC23 EUR-SASC 0108, PTC123 0241, PTC31, N/C&CIRC 0242 dated July 1, 2003, Special Passenger Amending Resolution 010s from India, Intended effective date: July 15, 2003.

Andrea M. Jenkins,
Program Manager, Docket Operations, Federal Register Liaison.

[FR Doc. 03-17904 Filed 7-15-03; 8:45 am]

BILLING CODE 4910-62-P